DEPARTMENT OF COMMERCE

National Institute of Standards and Technology

RIN 090318324-9911-02

Technology Innovation Program (TIP) Notice of Availability of Funds; Amendment

AGENCY: National Institute of Standards and Technology (NIST), Department of Commerce.

ACTION: Notice of availability of funds; amendment.

SUMMARY: On March 31, 2009, the National Institute of Standards and Technology (NIST) published a notice in the Federal Register announcing the solicitation of proposals for a single fiscal year 2009 Technology Innovation Program (TIP) competition. NIST is issuing this notice to clarify the eligibility criteria in that notice.

DATES: The due date for submission of proposals for the single fiscal year 2009 TIP competition is 3 p.m. Eastern Time, Tuesday, June 23, 2009. This deadline applies to any mode of proposal submission, including paper and electronic. Do not wait until the last minute to submit a proposal. TIP will not make any allowances for late submissions, including incomplete Grants.gov registration or delays by guaranteed overnight couriers. To avoid any potential processing backlogs due to last minute registrations, proposers are strongly encouraged to start their Grants.gov registration process at least four weeks prior to the proposal submission due date. Review, selection, and award processing is expected to be completed by the end of November 2009.

ADDRESSES: Proposals must be submitted to TIP as follows:

Paper submission: Send to National Institute of Standards and Technology, Technology Innovation Program, 100 Bureau Drive, Stop 4701, Gaithersburg, MD 20899-4701.

Electronic submission: http://www.grants.gov.

FOR FURTHER INFORMATION CONTACT: Barbara Cuthill at 301-975-3273 or by e-mail at barbara.cuthill@nist.gov.

SUPPLEMENTARY INFORMATION:

Additional Information. On March 31, 2009, NIST published a notice announcing the solicitation of proposals for a single fiscal year 2009 TIP competition (74 FR 14524-31). NIST is issuing this notice to clarify the Eligibility Criteria section of the notice (74 FR 14529) by adding the following sentence at the end of that section: “Nonprofit organizations must meet the eligibility criteria set forth in 15 CFR 296.5(a)(2) which explains the eligibility criteria for companies.” The purpose of this addition is to clarify the eligibility treatment of nonprofit organizations.

The entire revised Eligibility Criteria section is restated below for the public's convenience.

Eligibility Criteria. Single companies and joint ventures may apply for TIP funding as provided in 15 CFR 296.2, 296.4, and 296.5. Nonprofit organizations must meet the eligibility criteria set forth in 15 CFR 296.5(a)(2) which explains the eligibility criteria for companies.

Administrative Procedure Act and Regulatory Flexibility Act. Prior notice and comment are not required under 5 U.S.C. 553, or any other law, for rules relating to public property, loans, grants, benefits or contracts (5 U.S.C. 553(a)). Because prior notice and an opportunity for public comment are not required pursuant to 5 U.S.C. 553 or any other law, the analytical requirements of the Regulatory Flexibility Act (5 U.S.C. et seq.) are inapplicable. Therefore, a regulatory flexibility analysis is not required and has not been prepared.

E.O. 12866 (Regulatory Planning and Review). This notice is determined to be not significant under Executive Order 12866.

Dated: May 13, 2009.
Patrick Gallagher,
Deputy Director.

[FR Doc. E9-11627 Filed 5-18-09; 8:45 am]

BILLING CODE 3510-13-P